DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is updating the identifying information for one entity and one individual that was previously designated pursuant to the Foreign Narcotics Kingpin Designation Act (Kingpin Act) (21 U.S.C. Sections 1901-1908, 8 U.S.C. Section 1182).

DATES: The update to the list of Specially Designated Nationals and Blocked Persons (SDN List) of the individual and entity identified in this notice whose property and interests in property are blocked pursuant to the Kingpin Act, is effective on October 4, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac.

Background

The Kingpin Act became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Kingpin Act provides that the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 4, 2016, the Associate Director of the Office of Global Targeting updated the SDN List for the entity and individual listed below, whose property and interests in property are blocked pursuant to the Kingpin Act:

Entity and Individual

1. AVICAL S.A., Transversal 72 No. 16-11, Glorieta de Milan, Manizales, Caldas, Colombia; Carrera 18 No. 30-65, Manizales, Caldas, Colombia; Calle 161 No. 91A-53, Bogota, Cundinamarca, Colombia; Medellin, Antioquia, Colombia; Dosquebradas, Risaralda, Colombia; NIT # 810006566-9 (Colombia) [SDNTK].

—to—

AVICAL S.A., Transversal 72 No. 16-11, Glorieta de Milan, Manizales, Caldas, Colombia; Carrera 18 No. 30-65, Manizales, Caldas, Colombia; Calle 161 No. 91A-53, Bogota, Cundinamarca, Colombia; Medellin, Antioquia, Colombia; Dosquebradas, Risaralda, Colombia; 810006556-9 (Colombia) [SDNTK].

2. MURILLO SALAZAR, Claudia Julieta, Colombia; Mexico; DOB 29 Jul 1975; POB Manizales, Caldas, Colombia; nationality Colombia; Cedula No. 30335610 (Colombia); C.U.R.P. MUSC750729MNERU04 (Mexico) (individual) [SDNTK] (Linked To: AVICAL S.A.; Linked To: MUNSA INTERNATIONAL INVESMENTS S.A.).

—to—

MURILLO SALAZAR, Claudia Julieta, Colombia; Mexico; DOB 29 Jul 1975; POB Manizales, Caldas, Colombia; nationality Colombia; Cedula No. 30335610 (Colombia); C.U.R.P. MUSC750729MNERLL04 (Mexico) (individual) [SDNTK] (Linked To: AVICAL S.A.; Linked To: MUNSA INTERNATIONAL INVESMENTS S.A.).

Dated: October 4, 2016.
Gregory T. Gatjanis,
Associate Director, Office of Global Targeting, Office of Foreign Assets Control.

[FR Doc. 2016-24332 Filed 10-6-16; 8:45 am]

BILLING CODE 4810-AL-P